DEPARTMENT OF DEFENSE

Department of the Navy

Notice of Surplus Property at Navy Base Realignment and Closure 1993 Installation: Naval Air Station Alameda, Alameda, CA

AGENCY: Department of the Navy, DoD.

ACTION: Notice.

SUMMARY: This notice provides information on the surplus property at Naval Air Station Alameda, Alameda, California.

FOR FURTHER INFORMATION CONTACT: Ms. Kimberly Kesler, Director, Base Realignment and Closure Program Management Office, 1455 Frazee Road, Suite 900, San Diego, CA 92108-4310, telephone 619-532-0993; or Ms. Laura Duchnak, Director, Base Realignment and Closure Program Management Office West, 1455 Frazee Road, Suite 900, San Diego, CA 92108-4310, telephone 619-532-0994.

SUPPLEMENTARY INFORMATION: In 1993, the Naval Air Station Alameda, Alameda, CA, was designated for closure pursuant to the Defense Base Closure and Realignment Act of 1990, Public Law 101-510, as amended (the Act). Pursuant to this designation, the majority of the land and facilities at this installation were declared surplus to the needs of the federal government on May 20, 1994. Naval Air Station Alameda was operationally closed in 1997. The property described herein was originally planned as a Federal Agency transfer to the United States Coast Guard (USCG) and was therefore not included in the May 20, 1994 surplus determination. The USCG subsequently withdrew its request to acquire title to the property.

Notice of Surplus Property. Pursuant to paragraph (7)(B) of Section 2905(b) of the Act, as amended by the Base Closure Community Redevelopment and Homeless Assistance Act of 1994, the following information regarding the redevelopment authority for surplus property at Naval Air Station Alameda, Alameda, CA, is published in the Federal Register.

Redevelopment Authority. The redevelopment authority for the Naval Air Station Alameda, Alameda, CA, for purposes of implementing the provisions of the Defense Base Closure and Realignment Act of 1990, as amended, is the Alameda Reuse and Redevelopment Authority (ARRA), which was formed through a joint powers agreement, as amended, between the City of Alameda and the Community Improvement Commission of the City of Alameda. For further information contact Ms. Irma Glidden, Alameda Reuse and Redevelopment Authority, Alameda Point/NAS Alameda, 950 W. Mall Square—Bldg. 1, Alameda, CA 94501-5012, telephone 510-749-5829.

Surplus Property Description. The following is a list of the land and facilities at Naval Air Station, Alameda, Alameda, CA that are surplus to the needs of the Federal Government. a. Land. Approximately 42+/-acres of improved and unimproved fee simple land at the U.S. Naval Air Station Alameda, City of Alameda, Alameda County, California.

b. Buildings. The following is a summary of the buildings and other improvements located on the above-described land that will be available. Property numbers are available on request.

(1) Family Housing (multi-family structures with 282 individual housing units). Comments: Approximately 440,010 square feet. Built around 1969.

(2) Paved areas (roads and surface areas) and other surface areas (sidewalks, parking lots, etc.).

(3) Recreational facilities, outdoor. Comments: Playing fields and a basketball court.

(4) Utility facilities. Comments: Measuring systems vary: includes telephone, electric, storm drainage, water, sewer, etc.

Redevelopment Planning. Pursuant to Section 2905(b)(7)(F) of the Act, the ARRA will conduct a community outreach effort with respect to the surplus property, and will publish in a newspaper of general circulation in the communities within the vicinity of Naval Air Station Alameda, Alameda, CA, the time period during which the ARRA will receive notices of interest from State and local governments, representatives of the homeless, and other interested parties. This publication shall include the name, address, telephone number, and the point of contact for the ARRA who can provide information on the prescribed form and contents of the notices of interest.

Dated: October 29, 2007.
T.M. Cruz,
Lieutenant, Judge Advocate General's Corps, U.S. Navy, Federal Register Liaison Officer.

[FR Doc. E7-21668 Filed 11-2-07; 8:45 am]

BILLING CODE 3810-FF-P